DEPARTMENT OF HEALTH AND HUMAN SERVICES

American Health Information Community Chronic Care Workgroup Meeting

ACTION: Announcement of meeting.

SUMMARY: This notice announces the first meeting of the American Health Information Community Chronic Care Workgroup in accordance with the Federal Advisory Committee Act (Pub. L. 92-463, 5 U.S.C., App.).

DATES: February 1, 2006 from 1 p.m. to 5 p.m.

ADDRESSES: Hubert H. Humphrey Building (200 Independence Ave., SW., Washington, DC 20201), conference room 705A.

FOR FURTHER INFORMATION CONTACT: http://www.hhs.gov/healthit.

SUPPLEMENTARY INFORMATION: For information on how to access this workgroup meeting via the Web, including ensuring your PC's compatibility, go to: http://www.hsrnet.net/onc/workgroups/.

This notice is published less than 15 days in advance of the meeting due to logistical difficulties.

Dated: January 23, 2006.
Dana Haza,
Office of Programs and Coordination, Office of the National Coordinator.

[FR Doc. 06-830 Filed 1-27-06; 8:45 am]

BILLING CODE 4150-24-M